GENERAL SERVICES ADMINISTRATION

[GSA Bulletin FMR 2007-B2]

Placement of Commercial Antennas on Federal Property

AGENCY: General Services Administration.

ACTION: Notice of bulletin.

SUMMARY: The attached bulletin cancels and replaces FPMR Bulletin D-242, Placement of Commercial Antennas on Federal Property. It provides all Federal agencies with the general guidelines and processes for implementing President Clinton's memorandum of August 10, 1995, entitled “Facilitating Access to Federal Property for the Siting of Mobile Services,” and section 704(c) of the Telecommunications Act of 1996, Pub. L. 104-104 (Feb. 8, 1996), as codified at 47 U.S.C. 332 note.

DATES: Effective Date: March 14, 2007.

FOR FURTHER INFORMATION CONTACT: Stanley C. Langfeld, Director, Regulations Management Division, Office of Governmentwide Policy, 202-501-1737 or stanley.langfeld@gsa.gov.

Dated: March 7, 2007.
Kevin Messner,
Acting Associate Administrator, Office of Governmentwide Policy.

[GSA Bulletin FMR Bulletin 2007-B2]

Real Property

To: Heads of Federal Agencies.

Subject: Placement of Commercial Antennas on Federal Property.

1. Purpose. This bulletin cancels and replaces FPMR Bulletin D-242, Placement of Commerical Antennas on Federal Property, which was published in the Federal Register on June 16, 1997, with an effective date of June 11, 1997 (62 FR 32611), and provides all Federal agencies with the general guidelines and processes for implementing President Clinton's memorandum of August 10, 1995, entitled “Facilitating Access to Federal Property for the Siting of Mobile Services Antennas,” which memorandum is still in effect, and section 704(c) of the Telecommunications Act of 1996, Pub. L. 104-104 (Feb. 8, 1996), 47 U.S.C. 332 note. This bulletin contains much of the same guidance as D-242 and includes updated information concerning the antenna siting program.

2. Expiration. This bulletin contains information of a continuing nature and will remain in effect until canceled.

3. Background

a. On August 10, 1995, President Clinton signed a memorandum directing the Administrator of General Services, in consultation with the heads of other Federal agencies, to develop procedures necessary to facilitate access to Federal property for the siting of “mobile services antennas” (telecommunications service provider equipment).

b. On February 8, 1996, the President signed the Telecommunications Act of 1996, which included a provision for making Federal property available for placement of telecommunications equipment by duly authorized providers.

c. On March 29, 1996, GSA published a Notice in the Federal Register outlining the guiding principles and actions necessary for Federal agencies to implement the antenna siting program promulgated by the Presidential memorandum and the Telecommunications Act of 1996.

d. In response to inquiries from the wireless telecommunications industry regarding the Federal Government's progress in this program, GSA conducted three Antenna Siting Forums: March 5, 1997, for Federal agencies; March 19, 1997, for the wireless telecommunications industry; and a joint forum on April 15, 1997.

e. A fact-finding working group comprised of industry and Federal agency representatives was established and met to discuss the issues raised during the initial two forums. These issues were:

(1) Development of a uniform evaluation process, including timely response and an appeals process, to facilitate and explain the basic application process;

(2) Site pricing to enable Federal agencies to retain flexibility in establishing the antenna rates;

(3) Site competition to provide timely response to requests and, where feasible, encourage industry collocation;

(4) Fee reimbursement to provide payment to the Federal Government for services and resources provided as part of the siting request review process;

(5) Site security, access, and rights-of-way to identify roles and responsibilities of both the Federal Government and the wireless telecommunications service provider; and

(6) Site request denial tracking to enable GSA and the wireless telecommunications industry to track antenna requests and denials.

f. GSA subsequently identified environmental and historic resource implications as additional issues to be considered by the working group and these issues are addressed in this document.

g. This collaborative effort, along with further meetings and discussions, has resulted in a better understanding of processes and procedures between the wireless telecommunications industry and the Federal agencies.

h. The updated guidelines and procedures described in this bulletin will further efforts for a more cooperative relationship between the Federal Government and the wireless telecommunications industry and continue efforts to facilitate implementing the requirements of section 704(c) of the Telecommunications Act of 1996 and President Clinton's memorandum on facilitating access to Federal Property.

4. Action. The following guidelines and procedures should be followed by all Executive departments and agencies. In addition, all independent regulatory commissions and other federal agencies also are requested to comply with the following:

a. Determining impact to controlled property. Each Executive department and agency that controls and operates real property, rights-of-way or easements affecting property by virtue of specific statutory authority is responsible for determining the extent and programmatic impact of placing commercially-owned antennas on its properties.

b. Review of internal agency rules. Each Executive department and agency should review its rules, policies and procedures for allowing commercial use of its properties and modify them, as necessary, to support the siting of commercial telecommunications service antennas as provided in this bulletin.

c. Dissemination of antenna guidelines. Executive department and agency officials in national, regional, and local offices who are responsible for the siting of commercial telecommunications service antennas should comply with the requirements and policies prescribed by the Telecommunications Act of 1996 concerning property, rights-of-way and easements under their agency's control, and President Clinton's memorandum on facilitating access to Federal property.

d. Preliminary response to siting request. Each Executive department and agency should provide at least a preliminary written response to any antenna siting request no later than sixty (60) days after receipt of the request. This response should be sent after performing an initial evaluation of the request. In the event that the Executive department or agency does not provide a preliminary written response to the siting request within sixty (60) days after receipt of the request, the request shall be deemed denied and the service provider shall have the right to appeal such denial in accordance with the procedures set forth at Section 6.d, below.

e. Open communications. Each Executive department and agency should maintain open communications with the requesting wireless telecommunications provider. Communication is critical once a siting request has been submitted and should be maintained throughout the term of the working relationship.

f. Points of contact. Each Executive department and agency should, upon request, provide firms and individuals with the agency's point of contact for placing commercial telecommunications service antennas on Federal properties. Generally, Federal buildings and courthouses are controlled by the General Services Administration; military posts and bases, by the Department of Defense; Veterans hospitals and clinics, by the Department of Veterans Affairs; and open land areas, including National Parks, National Forests and other public lands, by the Department of the Interior or the Department of Agriculture.

g. Headquarters points of contact. Attachment A is a listing of the agency points of contact in the headquarters of Federal real property holding departments and agencies. Anyone interested in placing antennas on specific Federally-owned properties should contact the appropriate agency official.

h. Information required. Telecommunications service providers must be duly licensed by the Federal Communications Commission (FCC) to be eligible to site antennas on federal property. Qualified, interested parties should specifically identify the Federal property and provide the basic information described in Attachment B (Uniform Review Process). Federal agencies should advise the applicants of any specific application procedures, and provide the name of the local site or facility manager responsible for determining site suitability as well as the term and type of instrument (e.g., lease, permit, license) required to facilitate access to the property.

i. Assistance in determining property ownership. In instances where the identity of the department or agency that has custody and control of the property is unknown, the GSA Office of Governmentwide Policy Office of Real Property Management should be contacted. This office maintains a listing of all properties owned by the Federal Government world-wide and will assist in the identification of such property. This office may be reached at (202) 501-0856, or by writing to the Office of Real Property Management (MP), Room 6207, General Services Administration, 1800 F Street, NW., Washington, DC 20405. To assist in identifying the appropriate Federal department or agency, inquiries should include the state, city/county, building/ property name and mailing address of the property in question.

5. Applicability. These guidelines are applicable to Executive departments and agencies for antenna siting requests for rooftops, open land or other requests for access under this program. These guidelines do not apply to lands held by the United States in trust for individual or Native American Tribal Governments. For antenna sites on property not under the jurisdiction, custody or control of GSA, agencies also should review the Department of Commerce Report entitled “Improving Rights-of-Way Management Across Federal Lands: A Roadmap for Greater Broadband Deployment” (April 2004).

6. Antenna Siting Principles and Regulatory Guidance. To facilitate compliance with the Telecommunications Act of 1996, and President Clinton's memorandum on facilitating access to Federal property, the following principles should be applied in evaluating requests for antenna siting access. In addition, agencies operating under, or subject to, the authorities of GSA should review 41 CFR 102-79.70—100 for additional regulatory guidance on siting antennas on federal property.

a. Property availability. Upon request, and to the extent permitted by law and to the extent practicable, Executive departments and agencies may make available Federal Government buildings and lands for the siting of telecommunications service antennas. This should be done in accordance with Federal, State and local laws and regulations, as applicable, and consistent with national security concerns. Care should be exercised to avoid electromagnetic intermodulations and interferences. The evaluation of the siting request must include consideration of environmental and historic preservation issues, including, but not limited to:

(1) Public health and safety with respect to the antenna installation and maintenance;

(2) Aesthetics;

(3) Effects on historic districts, sites, buildings, monuments, structures, or other objects pursuant to the National Historic Preservation Act of 1966, as amended, and implementing regulations, and the September 2004 Nationwide Programmatic Agreement for Review of Effects on Historic Properties for Certain Undertakings Approved by the Federal Communications Commission;

(4) Protection of natural and cultural resources (e.g., National Parks and Wilderness areas, National Wildlife Refuge systems);

(5) Compliance with the appropriate level of review and documentation as necessary under the National Environmental Policy Act of 1969, as amended, and implementing regulations of each Federal department and agency responsible for the antenna siting project, and the Federal Aviation Administration, the National Telecommunications and Information Administration, and other relevant departments and agencies; and

(6) Compliance with the FCC's guidelines for radiofrequency exposure, OET Bulletin 65, Edition 97-01, entitled “Evaluating Compliance with FCC Guidelines for Human Exposure to Radiofrequency Electromagnetic Fields” (August 1997), as the same may be revised from time to time, and any other guidance relating to radiofrequency guidelines and their enforcement. These updated guidelines for addressing health concerns reflect the latest scientific knowledge in this area, and are supported by Federal health and safety agencies such as the Environmental Protection Agency and the Food and Drug Administration.

b. Site evaluation. The evaluation of any siting request will also be subject to any additional requirements of the Federal agency managing the facility, the FCC, the Federal Aviation Administration, the National Telecommunications and Information Administration, and other relevant departments and agencies. In addition, the National Capital Planning Commission should be consulted for siting requests within the Washington, DC metropolitan area.

c. Granting siting requests. As a general rule, requests for the use of property, rights-of-way and easements by telecommunications service providers duly licensed by the FCC should be granted, unless there are unavoidable conflicts with the department's or agency's mission, or current or planned use of the property or access to that property. A denial of a siting request based on these criteria should be fully explained, in writing, as noted in paragraph d., below.

d. Agency discretion for site denial. Executive departments and agencies shall retain discretion to reject inappropriate siting requests and assure adequate protection of public property. In cases where the antenna siting request has been denied, Executive departments and agencies should allow the service provider to appeal the decision to a higher level of agency authority for review. Written denial of a siting request should be fully explained, and should advise the service provider of the name and mailing address of the appropriate agency official to whom the appeal should be sent.

e. Site access. All procedures and mechanisms adopted by Executive departments and agencies regarding access to Federal property should be clear and simple so as to facilitate the efficient build-out of the national wireless communications infrastructure. Obtaining rights of access to Federal properties through non-Federal lands is the sole responsibility of the telecommunications service provider.

f. Costs for services. The telecommunications service provider is responsible for any reasonable costs incurred by Federal agencies associated with providing access to antenna sites, including obtaining appropriate clearance of provider personnel for access to buildings or land deemed to be security sensitive as is done with service contractor personnel. OMB Circular A-25, entitled “User Charges,” revised July 8, 1993, established guidelines for agencies to assess fees for Government services, and for the sale or use of Government property or resources.

g. Site fees. Pursuant to the Telecommunications Act of 1996, agencies are authorized to charge reasonable fees for antenna sites on Federal property. In accordance with President Clinton's memorandum, Executive departments and agencies should charge fees based on market value. Fee determinations can be based on appraisal, use of set rate schedules or other reasonable means of value determination. Unless otherwise authorized by law to retain antenna siting proceeds, agencies collecting fees pursuant to the Telecommunications Act must remit the fees to the General Fund of the Treasury.

h. Site requests. Executive departments and agencies should make antenna sites available on a fair, reasonable and nondiscriminatory basis. Collocation of antennas should be encouraged where there are multiple antenna siting requests for the same location. In cases where this is not feasible and space availability precludes accommodating all antenna siting applicants, competitive procedures may be used.

i. Priority for siting antennas. The siting of telecommunications service provider antennas should not be given priority over other authorized uses of Federal buildings or land.

j. Advertising prohibition. Antenna structures on Federal property may not contain any advertising.

k. Equipment removal. Terms and provisions of the lease, permit, license, or other legal instrument used should assure the timely removal or transfer of ownership of equipment and structures by the service provider. Unless the express terms of the applicable site access agreement provide otherwise, removal of such equipment and structures should be at the sole cost and expense of the telecommunications service provider.

l. Review process. For those Federal agencies that are unfamiliar with the siting request application process, Attachment B, Uniform Review Process, provides additional processing information to assist in the antenna siting request review.

m. Additional Information. Further information regarding this bulletin may be obtained by contacting Mr. Stanley C. Langfeld, Director, Regulations Management Division, Office of Governmentwide Policy, General Services Administration, (202) 501-1737.

Attachment A—Agency Contact Points for the Placement of Antennas on Federal Buildings

Bonneville Power Administration, Paul Majkut, Office of General Counsel, 905 Northeast 11th Avenue, Portland, OR 97232, (503) 230-4201.

Federal Communications Commission, Dennis Dorsey, Supervisor, Contracts Branch, 1919 M St., NW., Room 404, Washington, DC 50554, (202) 418-1865.

National Academy of Science, National Research Council, 2101 Constitution Ave., NW., Mail Stop (HA-274), Washington, DC 20418, (202) 334-3384.

National Aeronautics & Space Administration, Albert Johnson, Team Leader—Real Estate, Facilities Engineering & Real Property Division, NASA Headquarters, LD030, 300 E Street, SW, Washington, DC 20546-0001, (202) 358-1834.

National Archives & Records Administration, Mark Sprouse, Division Director, Facilities & Personal Property Management, (301) 837-3019, and John Bartell, Branch Chief, Facilities Management, (301) 837-1813, 8601 Adelphi Road, Room 2320, College Park, MD 20740-6001.

National Science Foundation, Property Administrator, Mary Lou Higgs, 4201 Wilson Blvd., Room 295, Arlington, VA 22230, (703) 292-8190.

Tennessee Valley Authority, Legal Department, 1101 Market Street, Mail Stop: (WR4A-C), Chattanooga, TN 37402-2801, (865) 632-4301.

U.S. Army Corps of Engineers, Management and Disposal Division in the Real Estate Directorate, 20 Massachusetts Ave., NW., Room 4224, Washington, DC 20314-1000, (202) 761-0511.

U.S. Department of Agriculture, Property Management Division, AG Box 9840, Washington, DC 20250, (202) 295-5028.

U.S. Department of Commerce, Office of Real Estate, 14th & Constitution Ave., NW., Room 1040, Washington, DC 20230, (202) 482-3580.

U.S. Department of Defense: Commercial companies who wish to place antennas on DOD property should first contact that property's Installation Commander. If unknown, please contact the following office: Brad Hancock, Commander—Installations, Requirements & Management, 3400 Defense Pentagon, Room 5C646, Washington, DC 20301-3340, (703) 571-9074.

U.S. Department of Education, Mitchell Clark, Assistant Secretary of Mangement & Chief Human Capital Officer, 400 Maryland Avenue, SW., Room FB6-2W311, Washington, DC 20202, (202) 401-5848.

U.S. Department of Energy, Engineering & Space Management Branch, 1000 Independence Ave., SW., Mail Stop: HR211, Room 1F-039, Washington, DC 20585, (202) 586-1557.

U.S. Department of Health & Human Services, Office of Facilities Management & Policy, 200 Independence Ave., SW., 3rd Floor, Washington, DC 20001, Diane Stewart (202) 205-4834.

U.S. Department of the Interior, Bureau of Land Management, 1849 C Street, NW., Room 1000-LS, Washington, DC 20240-9998, (202) 452-7782.

U.S. Department of the Interior, National Park Service, Parks, Planning, Facilities & Lands, 1849 C Street, NW., Washington, DC 20240, Lee Dickinson, Right-of-Way Program Manager, (202) 513-7092.

U.S. Department of Justice, Real Property Management Services, Suite 1060, National Place Building, Washington, DC 20530, (202) 616-2266.

U.S. Department of Labor, Office of Facility Management, 200 Constitution Ave., NW., Room S 1520/ OFM, Washington, DC 20210, (202) 693-6660.

U.S. Department of State, Office of Real Property, 2201 C Street, NW., Suite 1264, Washington, DC 20520, (202) 647-3477.

U.S. Department of Transportation, Office of the Secretary, 400 7th Street, SW, Mail Stop: M72, Room 2318, Washington, DC 20590, Rita Martin (202) 366-9724.

U.S. Department of Treasury, Office of Real and Personal Property Management, Office of the Deputy Assistant Secretary for Departmental Finance and Management, 1500 Pennsylvania Ave., NW., Room 6140-ANX, Washington, DC 20220, (202) 622-0500.

U.S. Department of Veterans Affairs, Land Management Service, 811 Vermont Ave., NW., Mail Stop: 184A, Washington, DC 20005, (202) 565-5026.

U.S. Environmental Protection Agency, Architecture, Engineering and Asset Management Branch, Facilities Management and Services Division, Ronald Reagan Building, 1200 Pennsylvania Avenue, NW., Washington, DC 20460, William Ridge, Branch Chief, (202) 564-2160.

U.S. General Services Administration: Commercial companies who wish to place antennas on GSA property should first contact the appropriate Regional Office of the Public Buildings Service. If unknown, please contact the Public Buildings Service, 1800 F St., NW., Washington, DC 20405, (202) 501-1100.

U.S. Government Printing Office, Office of Administrative Support, 710 North Capitol St., NW., Mail Stop: OA, Washington, DC 20401-0501, (202) 512-1074.

International Broadcasting Bureau/M/AF, CohenBuilding, 330 Independence Ave., SW., Washington, DC 20237, Carol Baker, Director of Administration, (202) 203-4588.

U.S. Postal Service, Realty Asset Management, 475 L'Enfant Plaza West, SW., Washington, DC 20260-6433, Bob Otto, (202) 268-5700.

Attachment B—Uniform Review Process

The following information may be used as a guide by Federal agencies upon receipt of an antenna siting request from a service provider duly licensed by the FCC. This uniform review process is intended to assist those Federal agencies that are unfamiliar with the review and evaluation of antenna siting proposals. This guidance has been developed based on input from several Federal agencies that have had extensive experience in working with the wireless communications industry and antenna siting requests for both rooftop and open land installations. In addition, agencies operating under, or subject to, the authorities of GSA should review 41 CFR 102-79.70—100 for additional regulatory guidance on siting antennas on Federal property.

a. Siting request review. Federal agencies should review the siting request to confirm that the required basic evaluation information is provided. This information should include the following:

(1) Name, address and telephone number of applicant and authorized or legal representative for the project;

(2) Specific building name and address, or, as appropriate, latitude and longitude or other site specific property identifier;

(3) Type and size of antenna installation and support required for the service provider's proposed wireless site, including access to site, utility requirements, acreage of land or ft/lb capacity for rooftops, etc. In cases where the proposed site is to be located on an established building or wireless facility, any special modification requirements unique to the service provider's proposal must be clearly identified;

(4) FCC license number and summary of antenna specifications, including frequencies;

(5) Proposed term of requirement;

(6) Terms of removal of equipment and structures or property restoration;

(7) Description of project or larger antenna installation program, if applicable; and

(8) As appropriate, proposed method of achieving environmental and historic sensitivity compliance.

b. Site survey.

(1) Upon agency completion of an initial review for information sufficiency, coordination with the facility manager, and determination that there is no obvious reason to deny the request, a site survey with the wireless telecommunications provider should be scheduled, in part to determine whether the site actually meets the needs of the service provider. If feasible, from the information available, a response should be sent to the applicant as soon as possible, but no later than sixty (60) days after receipt either granting or denying the siting request. In the event that the agency does not provide a preliminary written response to the siting request within sixty (60) days after receipt of the request, the request shall be deemed denied and the service provider shall have the right to appeal such denial in accordance with the procedures set forth in this bulletin.

(2) If there is insufficient information to make a decision, the agency should send a preliminary response to the applicant as soon as possible, but no later than sixty (60) days after receipt of the request. This response should inform the applicant of the need for any additional information, unique conditions or restrictions affecting the property, or other circumstances that may influence the timing or ultimate determination for site approval. In addition, the National Capital Planning Commission should be consulted for siting requests within the Washington, DC metropolitan area.

c. Point of contact. In all cases, the agency's response should include the name and telephone number of the agency representative or facility manager responsible for the project. This information will enable the applicant to initiate planning for the potential use of the requested site.

d. Need for additional information. If the preliminary response indicates additional information is required, the agency should review the applicant's response in a timely manner upon its receipt. The applicant should be advised, in writing, if there are any other review and reporting requirements necessary due to statutory, legal, or the agency's internal requirements prior to issuing a final decision. This may include an Environmental Assessment or an Environmental Impact Statement and public meetings as part of the National Environmental Policy Act of 1969, as amended, or any other potential reviews, including Section 106 of the National Historic Preservation Act of 1966, as amended, if applicable.

e. Notification of fees. Applicants should be advised as soon as possible of their responsibility for any charges for Government services provided in the review process or other issues that need to be resolved. This response should provide the applicant with an estimated time frame for completing the necessary actions and should be based on experience in dealing with projects of similar complexity.

f. Final decisions. Final decisions should be rendered, in writing, in a timely manner and after completion of all required reviews, evaluations or assessments. Denials of requests should provide the applicant with a written explanation of the reasons for denying the request. In addition, the applicant should be advised of the agency's appeal procedure, and the name and mailing address of the appropriate agency official to whom the appeal should be sent.

g. Formal documentation. After agency determination to approve the project, a lease, permit, license or other legal instrument should be executed to document the terms, conditions and responsibilities of both the Federal Government and the telecommunications service antenna provider.

[FR Doc. E7-4644 Filed 3-13-07; 8:45 am]

BILLING CODE 6820-RH-P